DEPARTMENT OF HEALTH AND HUMAN SERVICES

Health Care Financing Administration

42 CFR Part 457

[HCFA-2114-CN]

RIN 0938-AI65

State Child Health; State Children's Health Insurance Program Allotments and Payments to States; Correction

AGENCY: Health Care Financing Administration (HCFA), HHS.

ACTION: Final rule; correction.

SUMMARY: This document corrects a typographical error that appeared in the final rule concerning the State Children's Health Insurance Program published in the Federal Register on May 24, 2000.

EFFECTIVE DATE: This correction is effective june 23, 2000.

FOR FURTHER INFORMATION CONTACT: Richard Strauss, (410) 786-2019.

SUPPLEMENTARY INFORMATION: On May 24, 2000, we published a final rule in the Federal Register (65 FR 33616) that sets forth the methodologies and procedures to determine the Federal fiscal year allotments of Federal funds available to individual States, Commonwealth and Territories for the new State Children's Health Insurance Program established under title XXI of the Social Security Act. This document corrects the error made in this final rule.

In rule FR Doc. 00-12879 published on May 24, 2000, make the following correction.

§ 457.218 [Corrected]

On page 33625, in column 1, in § 457.218(b) “22 percent” is corrected to read “2½ percent”.

(Section 1102 of the Social Security Act (41 U.S.C. 1302)
(Catalog of Federal Domestic Assistance Program No. 00.000, State Children's Health Insurance Program)
Dated: August 18, 2000.
Brian P. Burns,
Deputy Assistant Secretary for Information Resources Management.

[FR Doc. 00-21762 Filed 8-25-00; 8:45 am]

BILLING CODE 4120-01-M